DEPARTMENT OF THE INTERIOR

National Park Service

Notice of Inventory Completion: U.S. Department of the Interior, Bureau of Reclamation, Lower Colorado Region, Phoenix Area Office, Phoenix, AZ

AGENCY: National Park Service, Interior.

ACTION: Notice.

Notice is here given in accordance with the Native American Graves Protection and Repatriation Act (NAGPRA), 25 U.S.C. 3003, of the completion of an inventory of human remains and associated funerary objects in the possession of the U.S. Department of the Interior, Bureau of Reclamation, Lower Colorado Region, Phoenix Area Office, Phoenix, AZ. The human remains and associated funerary objects were removed from site AZ AA:6:19(ASM), in the Santa Cruz Flats, Pinal County, AZ.

This notice is published as part of the National Park Service's administrative responsibilities under NAGPRA, 25 U.S.C. 3003 (d)(3). The determinations within this notice are the sole responsibility of the museum, institution, or Federal agency that has control of the Native American human remains and associated funerary objects. The National Park Service is not responsible for the determinations within this notice.

A detailed assessment of the human remains was made by Bureau of Reclamation, Lower Colorado Region, Phoenix Area Office professional staff in consultation with representatives of the Ak Chin Indian Community of the Ak Chin Indian Reservation, Arizona; Chemehuevi Indian Tribe of the Chemehuevi Reservation, California; Cocopah Tribe of Arizona; Colorado River Indian Tribes of the Colorado Indian Reservation, Arizona and California; Fort McDowell Yavapai Nation, Arizona; Fort Mojave Indian Tribe of Arizona, California & Nevada; Gila River Indian Community of the Gila River Indian Reservation, Arizona; Hopi Tribe of Arizona; Pasqua Yaqui Tribe of Arizona; Quechan Tribe of the Fort Yuma Indian Reservation, California & Arizona; Salt River Pima-Maricopa Indian Community of the Salt River Reservation, Arizona; San Carlos Apache Tribe of the San Carlos Reservation, Arizona; Tohono O'odham Nation of Arizona (including the San Xavier District of the Tohono O'odham Nation of Arizona); Tonto Apache Tribe of Arizona; White Mountain Apache Tribe of the Fort Apache Reservation, Arizona; Yavapai-Apache Nation of the Camp Verde Indian Reservation, Arizona; Yavapai-Prescott Tribe of the Yavapai Reservation, Arizona; and Zuni Tribe of the Zuni Reservation, New Mexico.

In 1987, human remains representing a minimum of six individuals were removed from site AZ AA:6:19(ASM) during legally authorized data recovery efforts undertaken by Northland Research, Inc., for the Bureau of Reclamation. The site is located in the Santa Cruz Flats, just north of the Silver Bell Mountains in Pinal County, AZ. No known individuals were identified. The 21 associated funerary objects are 1 ground stone fragment, 3 bags of chipped stone flakes, 3 bags of unworked faunal bone, 1 bag of unworked shell, 2 bags of worked shell (consisting of 811 shell beads plus fragments), 3 radiocarbon samples, 2 flotation samples (in 5 bags), and 6 pollen samples.

On the basis of archeological context, architectural, chronometric, and artifactual evidence, the site dates to the Late Archaic period (1500 B.C.- A.D. 1).

Evidence provided by anthropological, archeological, biological, geographical, historical, kinship, linguistics, and oral tradition sources was considered in determining the cultural affiliation of the human remains and associated funerary objects. Bureau of Reclamation, Lower Colorado Region, Phoenix Area Office officials have determined that, pursuant to 43 CFR 10.2 (e), the preponderance of the evidence suggests that a relationship of shared group identity can be traced between the historic O'odham groups, represented by the present-day Indian tribes of the Ak Chin Indian Community of the Ak Chin Indian Reservation, Arizona; Gila River Indian Community of the Gila River Indian Reservation, Arizona; Salt River Pima-Maricopa Indian Community of the Salt River Reservation, Arizona; and Tohono O'odham Nation of Arizona (including the San Xavier District of the Tohono O'odham Nation of Arizona), and the prehistoric Late Archaic groups that occupied the Santa Cruz River valley and surrounding areas.

There is a growing amount of archeological data that suggests a local continuum between Late Archaic populations and the Hohokam, a later prehistoric group with recognized affiliation to the O'odham. The cultural continuum is demonstrated by an increase in sedentism; establishment of pithouse settlements; adoption of agriculture; development of ceramic, ground stone, and shell manufacturing technology; and increased participation in nonlocal trade.

The O'odham were well established along the rivers and in the deserts when the Spanish first arrived in northern Sonora and southern Arizona. Oral traditions tell of early groups that were present before the adoption of agriculture, and refer to the introduction of several cultivated crops. O'odham traditions are also deeply embedded in the geography of southern Arizona, with events taking place at specific landmarks within traditional O'odham lands. The O'odham consider the Hohokam and their predecessors to be O'odham ancestors. Although the O'odham belong to the same linguistic group (Piman) as communities in what is now northern Mexico, shared vocabulary and syntax with Yuman language groups along the Colorado River suggests a long-term history of interaction in what is now southern Arizona that stretches back into prehistoric times.

Evidence suggests that the Hopi and Zuni are also culturally affiliated with the Hohokam and their predecessors. Their ancestors had trade relationships and other likely interactions with the Hohokam, similar to those found between groups in the early historic period. Hopi and Zuni oral traditions indicate that segments of the prehistoric Hohokam population migrated to the areas occupied by the Hopi and Zuni and were assimilated into the resident populations. A cultural continuum between Late Archaic groups in the Santa Cruz Valley and the later Hohokam suggests that the Hopi and Zuni are also affiliated with the Late Archaic populations.

Officials of the Bureau of Reclamation, Lower Colorado Region, Phoenix Area Office have determined that, pursuant to 25 U.S.C. 3001 (9-10), the human remains described above represent the physical remains of at least six individuals of Native American ancestry. Officials of the Bureau of Reclamation, Lower Colorado Region, Phoenix Area Office also have determined that, pursuant to 25 U.S.C. 3001 (3)(A), the 21 objects described above are reasonably believed to have been placed with or near individual human remains at the time of death or later as part of the death rite or ceremony. Lastly, officials of the Bureau of Reclamation, Lower Colorado Region, Phoenix Area Office have determined that, pursuant to 25 U.S.C. 3001 (2), there is a relationship of shared group identity that can be reasonably traced between the Native American human remains and associated funerary objects and the Ak Chin Indian Community of the Ak Chin Indian Reservation, Arizona; Gila River Indian Community of the Gila River Indian Reservation, Arizona; Hopi Tribe of Arizona; Salt River Pima-Maricopa Indian Community of the Salt River Reservation, Arizona; Tohono O'odham Nation of Arizona (including the San Xavier District of the Tohono O'odham Nation of Arizona), and Zuni Tribe of the Zuni Reservation, New Mexico.

Representatives of any other Indian tribe that believes itself to be culturally affiliated with these human remains and associated funerary objects should contact Jon Czaplicki or Bruce Ellis, Bureau of Reclamation, Phoenix Area Office, P.O. Box 81169, Phoenix, AZ 85069-1169, telephone (602) 216-3862, before December 31, 2003. Repatriation of the human remains and associated funerary objects to the Ak Chin Indian Community of the Ak Chin Indian Reservation, Arizona; Gila River Indian Community of the Gila River Indian Reservation, Arizona; Hopi Tribe of Arizona; Salt River Pima-Maricopa Indian Community of the Salt River Reservation, Arizona; Tohono O'odham Nation of Arizona (including the San Xavier District of the Tohono O'odham Nation of Arizona); and Zuni Tribe of the Zuni Reservation, New Mexico may proceed after that date if no additional claimants come forward.

The Bureau of Reclamation, Lower Colorado Region, Phoenix Area Office is responsible for notifying the Ak Chin Indian Community of the Ak Chin Indian Reservation, Arizona; Chemehuevi Indian Tribe of the Chemehuevi Reservation, California; Cocopah Tribe of Arizona; Colorado River Indian Tribes of the Colorado Indian Reservation, Arizona and California; Fort McDowell Yavapai Nation, Arizona; Fort Mojave Indian Tribe of Arizona, California & Nevada; Gila River Indian Community of the Gila River Indian Reservation, Arizona; Hopi Tribe of Arizona; Pasqua Yaqui Tribe of Arizona; Quechan Tribe of the Fort Yuma Indian Reservation, California & Arizona; Salt River Pima-Maricopa Indian Community of the Salt River Reservation, Arizona; San Carlos Apache Tribe of the San Carlos Reservation, Arizona; Tohono O'odham Nation of Arizona (including the San Xavier District of the Tohono O'odham Nation of Arizona); Tonto Apache Tribe of Arizona; White Mountain Apache Tribe of the Fort Apache Reservation, Arizona; Yavapai-Apache Nation of the Camp Verde Indian Reservation, Arizona; Yavapai-Prescott Tribe of the Yavapai Reservation, Arizona; and Zuni Tribe of the Zuni Reservation, New Mexico that this notice has been published.

Dated: October 27, 2003.
John Robbins,
Assistant Director, Cultural Resources.

[FR Doc. 03-29770 Filed 11-28-03; 8:45 am]

BILLING CODE 4310-50-S